NATIONAL FOUNDATION ON THE ARTS AND THE HUMANITIES

Institute of Museum and Library Services

Notice of Proposed Information Collection Requests: Research for the Museum Grants for American Latino History and Culture Program

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments about Research for the Grants for American Latino History and Culture Program, specifically to inform IMLS how to structure and implement this new grantmaking program so that it is useful to potential grantees and has an impact on the field of American Latino museums and education organizations. A copy of the proposed information collection request can be obtained by contacting the individual listed below in the ADDRESSES section of this Notice.

DATES: Written comments must be submitted to the office listed in the ADDRESSES section below on or before January 28, 2023.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except federal holidays.

Persons who are deaf or hard of hearing (TTY users) can contact IMLS at 202-207-7858 via 711 for TTY-Based Telecommunications Relay Service.

FOR FURTHER INFORMATION CONTACT: Gibran Villalobos, Project Manager, Institute of Museum and Library Services, 955 L'Enfant Plaza North SW, Suite 4000, Washington DC 20024-2135. Gibran Villalobos can be reached by telephone at 202-653-4649, or by email at gvillalobos@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of federal support for the Nation's libraries and museums. We advance, support, and empower America's museums, libraries, and related organizations through grant making, research, and policy development. To learn more, visit www.imls.gov.

II. Current Actions

The Research for Grants for American Latino History and Culture Program (ALHC Program) is intended to inform IMLS as it designs and implements a new grantmaking program to build the capacity of American Latino museums and education organizations nationwide. The ALHC Program was authorized for creation by NMALA in 2020 (H.R. 2420)—the same Act that authorized creation of a new Smithsonian National Museum of the American Latino. This proposed research will be the first for the ALHC Program to help ensure its relevance to the field and accessibility to potential grantees as well as the measurement of project outcomes. Coupled with a secondary data collection effort (which will include reviewing administrative records, museum/nonprofit grantee databases, and a literature review), this study will include three specific primary data collection activities: community listening sessions, semi-structured interviews, potential applicants, and a survey of potential ALHC Program grantees.

Agency: Institute of Museum and Library Services.

Title: Research for the Museum Grants for American Latino History and Culture Program.

OMB Control Number: 3137-NEW.

Agency Number: 3137.

Respondents/Affected Public: Museum and cultural professionals at organizations that would be interested in seeking public funding through a new IMLS Museum Grants for American Latino History and Culture Program, and other stakeholders with expertise in the American Latino Museum History and Culture space.

Total Estimated Number of Annual Respondents: 250.

Frequency of Response: Once per request.

Average Minutes per Response: To be determined.

Total Estimated Number of Annual Burden Hours: To be determined.

Cost Burden (dollars): To be determined.

Public Comments Invited: Comments submitted in response to this Notice will be summarized and/or included in the request for OMB's clearance of this information collection.

Dated: November 23, 2022.
Suzanne Mbollo,
Grants Management Specialist, Institute of Museum and Library Services.

[FR Doc. 2022-26026 Filed 11-28-22; 8:45 am]

BILLING CODE 7036-01-P